DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 7, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on November 01, 2018.
Donald P. Burger,
Chief, General Approvals and Permits Branch.

Application No. | Applicant | Regulation(s) affected | Nature of the special permits thereof
SPECIAL PERMITS DATA—Granted
11447-M | SAES PURE GAS, INC | 172.101(j), 173.240, 173.242, 173.187, 173.212, 176.83 | To modify the special permit to authorize an increase in the amount of nickel content from 5,200 pounds to 12,500 pounds.
12399-M | LINDE GAS NORTH AMERICA LLC | 172.203(a), 172.301(c), 180.205 | To modify the special permit to remove the annual reporting requirement, to adjust the check gain control accuracy requirement from annually to checked for a new Ultrasonic System and to update the language on min-wall patch requirements.
12532-M | CARLETON TECHNOLOGIES, INC | 173.302a(a) | To modify the special permit to clarify the proof testing pressure when a cylinder is inspected.
12748-M | LOCKHEED MARTIN CORPORATION | 172.301(a), 173.62, 173.62 | To modify the special permit to authorize additional 1.1D explosives.
20391-N | LINCOLN HEXAGON INC | 173.301(f), 173.301(f), 173.302(a) | To authorize the transportation in commerce of bundled non-DOT specification cylinders without pressure relief devices.
20612-M | WILCO MACHINE & FAB, INC | 178.345-7(a)(1), 178.345-3(a) | To remove the requirement for an external visual inspection every six months and to change the special permit from an emergency special permit to a routine special permit. (mode 1)
20697-M | Zoox, Inc | 172.101(j), 173.185(a) | To modify the special permit to authorize and increase in battery weight and to lower the nominal energy rating.
20704-N | BALL AEROSOL AND SPECIALTY CONTAINER INC | 178.33-9(a) | To authorize the manufacture, mark, sale and use of a non-DOT specification inner container, which conforms to all regulations applicable to a DOT specification 2P inner container, except as specified herein, for the transportation in commerce of the materials authorized by this special permit.
20707-N | SHARPSVILLE CONTAINER CORPORATION | 173.302(a), 173.304(a), 173.40(a), 178.61(b) | To authorize the manufacture, mark, sale and use of non-DOT specification stainless steel cylinders conforming to all regulations applicable to DOT specification 4BW, except as specified herein, for use in transporting materials authorized under this special permit.
20792-N | ATLAS AIR, INC | 172.101(j), 172.101(j)(1), 172.204(c)(3), 173.27(b)(2), 173.27(b)(3) | To authorize the transportation in commerce of explosives by cargo aircraft which is forbidden in the regulations.
SPECIAL PERMITS DATA—Denied
14188-M | STP PRODUCTS MANUFACTURING COMPANY | 173.304(d), 173.306(i) | To modify the special permit to authorize additional cylinder designs and pressures.
20776-N | ELI LILLY AND COMPANY | 173.12(b)(2)(i) | To authorize the transportation in commerce of lab packs where the inner packagings must be placed in a chemically compatible liner with sufficient absorbent material to prevent the wetting of the outer packaging.
SPECIAL PERMITS DATA—Withdrawn
7573-M | DEPARTMENT OF DEFENSE (MILITARY SURFACE DEPLOYMENT & DISTRIBUTION COMMAND) | 171.1 | To modify the special permit to authorize the use of AFMAN 24-204 instead of 49 CFR and ICAO regulations for the transportation of hazmat.
20619-M | GLOBALTECH ENVIRONMENTAL CORP | 172.400, 172.200, 172.300, 173.159a(c)(2), 173.185(c)(1)(iii), 173.185(c)(1)(iv), 173.185(c)(1)(v), 173.185(c)(3) | To modify the special permit to authorize an additional design of the packaging authorized.
20702-N | SAMSUNG AUSTIN SEMICONDUCTOR, L.L.C | 173.4, 173.4a | To authorize the transportation in commerce of machinery and equipment containing trace amounts of certain hazardous materials as small or excepted quantities.
20786-N | LEMAN AIR | 173.185(a) | To authorize the transportation in commerce of prototype lithium batteries by cargo-only aircraft.
20787-N | ATLAS AIR, INC | 172.101(j)(1), 172.204(c)(3), 173.27(b)(2), 173.27(b)(3), 175.30(a)(1) | To authorize the transportation in commerce of explosives by cargo only aircraft in amounts forbidden by the regulations.
20794-N | JAGUAR INSTRUMENTS INC | 173.302(a), 173.304(a) | To authorize the manufacture, mark, sale and use of non-DOT specification cylinders for the transportation in commerce of certain hazardous materials.

[FR Doc. 2018-24299 Filed 11-6-18; 8:45 am]

BILLING CODE 4909-60-P